NATIONAL SCIENCE FOUNDATION

Agency Information Collection Activities: Comment Request

AGENCY: National Science Foundation.

ACTION: Notice; Submission for OMB Review; Comment Request.

SUMMARY: The National Science Foundation (NSF) has submitted the following information collection requirement to OMB for review and clearance under the Paperwork Reduction Act of 1995, Public Law 104-13. This is the second notice for public comment; the first was published in the Federal Register at 81 FR 1233, and one comment was received. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725 17th Street NW., Room 10235, Washington, DC 20503, and to Suzanne Plimpton, Reports Clearance Officer, National Science Foundation, 4201 Wilson Boulevard, Room 1265, Arlington, VA 22230, or by email to splimpto@nsf.gov. Comments regarding these information collections are best assured of having their full effect if received within 30 days of this notification. Copies of the submission(s) may be obtained by calling 703-292-7556.

ADDRESSES: Submit written comments to Suzanne Plimpton, Reports Clearance Officer, National Science Foundation, 4201 Wilson Boulevard, Room 1265, Arlington, VA 22230, or by email to splimpto@nsf.gov.

FOR FURTHER INFORMATION CONTACT: Call or write, Suzanne Plimpton, Reports Clearance Officer, National Science Foundation, 4201 Wilson Boulevard, Room 1265, Arlington, VA 22230, or by email to splimpto@nsf.gov. Individuals who use a telecommunications device for the deaf (TDD) may call the Federal Information Relay Service (FIRS) at 1-800-877-8339, which is accessible 24 hours a day, 7 days a week, 365 days a year (including federal holidays).

NSF may not conduct or sponsor a collection of information unless the collection of information displays a currently valid OMB control number and the agency informs potential persons who are to respond to the collection of information that such persons are not required to respond to the collection of information unless it displays a currently valid OMB control number.

SUPPLEMENTARY INFORMATION: Comment: As required by 5 CFR 1320.8(d), comments on the information collection activities as part of this study were solicited through publication of a 60-Day Notice in the Federal Register on January 11, 2016, at 81 FR 1233. One comment came from Andrew Reamer, Research Professor in the George Washington Institute of Public Policy at George Washington University via email on January 12, 2016. He expressed support for the survey and wanted a copy of the questionnaire and methodology.

Response: The questionnaire was provided to Mr. Reamer on January 15, 2016, and he agreed to wait until the methodological summary was finalized before receiving a copy. NSF is forwarding the proposed renewal submission to the Office of Management and Budget (OMB) for clearance simultaneously with the publication of this second notice. The full submission may be found at: http://www.reginfo.gov/public/do/PRAMain.

Title of Collection: Nonprofit Research Activities Survey.

OMB Approval Number: 3145-New.

Summary of Collection

Approval to conduct a pilot of the new Nonprofit Research Activities Survey (NPRA) is being requested under the America COMPETES Reauthorization Act of 2010 § 505, codified in the National Science Foundation Act of 1950 (NSF Act), as amended, at 42 U.S.C. 1862, which under paragraph “b” directs the Foundation through NCSES to (1) collect, acquire, analyze, report, and disseminate statistical data related to the science and engineering enterprise in the U.S. and other nations that is relevant and useful to practitioners, researchers, policymakers, and the public, including statistical data on (a) research and development trends; (b) the science and engineering workforce; (c) U.S. competitiveness in science, engineering, technology, and research and development.

The National Center for Science and Engineering Statistics (NCSES) plans to conduct a pilot of the new NPRA. This survey will collect R&D and other related data from U.S. nonprofit organizations. This survey will collect the following:

• Total amount spent on R&D activities within nonprofit organizations,

• Number of employees and R&D employees,

• Sources of funds for R&D expenditures,

• Expenditures by field of R&D,

• Total amount of R&D funding provided to others outside the nonprofit organization,

• Types of recipients receiving R&D funding, and

• Funding by field of R&D.

Use of the information: The primary purpose of this pilot survey is to assess the feasibility of and to test the process of collecting the necessary information prior to the launch of a nationally representative survey planned for 2017. The pilot survey results will not be published. However, NCSES does plan to use the information provided to improve our national estimates of nonprofit research spending in our annual publication National Patterns of R&D Resources.

Expected respondents: The pilot sample will be 4,000 nonprofit organizations.

Estimate of burden: We expect a response rate of 80%. Based on the responses from the 28 cognitive interviews, we estimate the full survey to require 10 hours to complete. The response time for nonprofit organizations that do not conduct or fund research should be under 1 hour. We estimate that of the 4,000 organizations surveyed, no more than 700 will identify as performer or funders and submit a full survey response. Therefore our estimate of burden for the pilot survey is 10,300 hours (7,000 hours for the 700 performers and funders; 3,300 for the remainder of the sample).

Dated: May 3, 2016.
Suzanne H. Plimpton,
Reports Clearance Officer, National Science Foundation.

[FR Doc. 2016-10656 Filed 5-5-16; 8:45 am]

BILLING CODE 7555-01-P